DEPARTMENT OF ENERGY

[GDO Docket No. PP-502]

Application for Presidential Permit; Caribbean Transmission Development Co., LLC

AGENCY: Grid Deployment Office, Department of Energy.

ACTION: Notice of application.

SUMMARY: Caribbean Transmission Development Co., LLC (the Applicant or CTDC) has filed an application requesting a new Presidential permit to allow for the construction, connection, operation, and maintenance of facilities for transmission of electric energy at the international border between the United States Commonwealth of Puerto Rico (Puerto Rico) and the Dominican Republic.

DATES: Comments, protests, or motions to intervene must be submitted on or before April 15, 2024.

ADDRESSES: Comments, protests, or motions to intervene should be addressed by electronic mail to Electricity.Exports@hq.doe.gov.

FOR FURTHER INFORMATION CONTACT: Christina Gomer, (240) 474-2403, Electricity.Exports@hq.doe.gov.

SUPPLEMENTARY INFORMATION: The construction, operation, maintenance, and connection of facilities at the international border of the United States for the transmission of electric energy between the United States and a foreign country is prohibited in the absence of a Presidential permit issued by the Secretary of Energy pursuant to Executive Order (E.O.) 10485, as amended by E.O. 12038. On April 10, 2023, the authority to issue such permits was delegated to the DOE's Grid Deployment Office by Delegation Order No. S1-DEL-S3-2023 and Redelegation Order No. S3-DEL-GD1-2023.

On September 14, 2023, CTDC filed an application (Application or App.) with the Department of Energy (DOE) for a Presidential Permit to construct a bi-directional 320-kV, high voltage direct current (HVDC) subsea transmission line (Project Hostos) to connect the westernmost part of Puerto Rico to the easternmost part of the Dominican Republic.¹

¹ On September 26, November 20, and November 27, 2023, CTDC also filed revisions to its Application in response to DOE feedback on its September filing. The references to the Application in this notice reflect the latest revisions submitted by CTDC.

CTDC is a wholly-owned subsidiary of Atabey Capital, LLC and is headquartered in Dorado, Puerto Rico. App. at 4. CTDC's proposed Project Hostos would include a subsea transmission cable system consisting of “two crosslinked polyethylene (XLPE) HVDC cable runs, each rated at a voltage on +/−320 kV” that will be “separately laid, spanning approximately 91 miles (147 kilometers), depending on which route alternative is selected.” Id. at 6. The prospective project landfall (transition from nearshore to onshore) is proposed at the municipality of Mayagüez, Puerto Rico. Id. at 9. From the landfall location, the onshore cable route in Puerto Rico would consist of two segments. Id. at 6. The “from landfall to converter station” segment would consist of “two XLPE HVDC cable runs, each rated at a voltage of +/−320 kV,” and the “from converter station to point of interconnection” segment would consist of “two parallel three-phase XLPE HVDC cable runs, each rated at 230 kV[.]” Id. at 7. CTDC's Project Hostos does not incorporate any overhead transmission lines in Puerto Rico. Id. at 6.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning CTDC's Application should be clearly marked with Docket No. PP-502. Additional copies are to be provided directly to Tirso Selman, Project Director, Caribbean Transmission Development Co., LLC, info@caribbeantransmission.com.

Before a Presidential permit may be issued, DOE must determine that the proposed action is in the public interest. In making that determination, DOE will consider the environmental impacts of the proposed action (i.e., granting the Presidential permit, with any conditions and limitations, or denying the permit), which will be analyzed, disclosed, and available for public review, pursuant to DOE's National Environmental Policy Act Implementing Procedures (10 CFR part 1021); determine the Applicant's proposed project's impact on electric reliability by ascertaining whether the proposed project would adversely affect the operation of the U.S. electric power supply system under normal and contingency conditions; and weigh any other factors that DOE may also consider relevant to the public interest. DOE also must obtain the favorable recommendation of the Secretary of State and the Secretary of Defense before taking final action on a Presidential permit application.

CTDC's Application may be reviewed or downloaded electronically at www.energy.gov/gdo/pending-applications-0 or by emailing Electricity.Exports@hq.doe.gov.

Signing Authority: This document of the Department of Energy was signed on March 8, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 11, 2024.
Treena V. Garrett,
Federal Register Liaison Officer, U.S. Department of Energy.

[FR Doc. 2024-05413 Filed 3-13-24; 8:45 am]

BILLING CODE 6450-01-P